ENVIRONMENTAL PROTECTION AGENCY

[EPA-HQ-OECA-2014-0028; FRL—9974-54-OEI]

Information Collection Request Submitted to OMB for Review and Approval; Comment Request; NSPS for Calciners and Dryers in Mineral Industries (Renewal)

AGENCY: Environmental Protection Agency (EPA).

ACTION: Notice.

SUMMARY: The Environmental Protection Agency has submitted an information collection request (ICR)—NSPS for Calciners and Dryers in Mineral Industries (Renewal), EPA ICR Number 0746.10, OMB Control Number 2060-0251—to the Office of Management and Budget (OMB) for review and approval in accordance with the Paperwork Reduction Act. This is a proposed extension of the ICR, which is currently approved through April 30, 2018. Public comments were previously requested via the Federal Register on June 29, 2017 during a 60-day comment period. This notice allows for an additional 30 days for public comments. A fuller description of the ICR is given below, including its estimated burden and cost to the public. An agency may not conduct or sponsor, and a person is not required to respond to, a collection of information unless it displays a currently valid OMB control number.

DATES: Additional comments may be submitted on or before May 21, 2018.

ADDRESSES: Submit your comments, referencing Docket ID Number EPA-HQ-OECA-2014-0028, to: (1) EPA online using www.regulations.gov (our preferred method); or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Calciners and Dryers in Mineral Industries (40 CFR part 60, subpart UUU) apply only to new calciners and dryers at mineral processing plants that either process or produce either any of the following minerals and their concentrates or any mixture of which the majority is any of the following minerals or a combination of these minerals: Alumina, ball clay, bentonite, diatomite, feldspar, fire clay, fuller's earth, gypsum, industrial sand, kaolin, lightweight aggregate, magnesium compounds, perlite, roofing granules, talc, titanium dioxide, and vermiculite. Particulate matter (PM) is the pollutant regulated under this subpart. Feed and product conveyors are not considered part of the affected facility. Facilities subject to the NSPS for Metallic Mineral Processing Plants (40 CFR part 60, subpart LL) are not subject to these standards. There are additional processes and process units at mineral processing plants listed at Section 60.730(b) which are not subject to the provisions of this Subpart. New facilities include those that commenced construction, modification or reconstruction after the date of proposal. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Owners and operators of calciners and dryers at mineral processing plants.

Respondent's obligation to respond: Mandatory (40 CFR part 60, subpart UUU).

Estimated number of respondents: 167 (total).

Frequency of response: Initially, occasionally, and semiannually.

Total estimated burden: 6,630 hours (per year). Burden is defined at 5 CFR 1320.3(b).

Total estimated cost: $805,000 (per year), includes $109,000 in either annualized capital or operation & maintenance costs.

Changes in the Estimates: There is a small increase in the total estimated burden currently identified in the OMB Inventory of Approved Burdens. The adjustment in the burden occurred because this ICR assumes all existing respondents will have to familiarize with the regulatory requirements each year. Further, there is an increase of one response due to a correction. The previous ICR did not account for the notification of operational/physical change in calculating the number of responses.

Courtney Kerwin,
Director, Regulatory Support Division.

[FR Doc. 2018-08332 Filed 4-19-18; 8:45 am]

BILLING CODE 6560-50-P